DEPARTMENT OF THE TREASURY

Office of Foreign Assets Control

Actions Taken Pursuant to Executive Order 13645

SUB-AGENCY: Office of Foreign Assets Control, Treasury.

ACTION: Notice.

SUMMARY: The Treasury Department's Office of Foreign Assets Control (“OFAC”) is publishing the names of three entities whose property and interests in property are blocked pursuant to Executive Order 13645 of June 3, 2013, as well as the names of three vessels in which one of the entities has a property interest.

DATES: OFAC's actions pursuant to Executive Order 13645 described in this notice were effective December 12, 2013.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

Additional information concerning OFAC is available from OFAC's Web site (www.treasury.gov/ofac). Certain general information pertaining to OFAC's sanctions programs also is available via facsimile through a 24-hour fax-on-demand service, tel.: 202/622-0077.

Background

On June 3, 2013, the President issued Executive Order 13645 (“Authorizing the Implementation of Certain Sanctions Set Forth in the Iran Freedom and Counter-Proliferation Act of 2012 and Additional Sanctions With Respect to Iran”) (“E.O. 13645”). Section 2 of E.O. 13645 blocks, with certain exceptions, all property and interests in property that are in the United States, that hereafter come within the United States, or that are or hereafter come within the possession or control of any United States person, including any foreign branch, of persons determined by the Secretary of the Treasury, in consultation with the Secretary of State, to satisfy any of the criteria set forth in subsection (a)(i) or (a)(ii) of section 2.

On December 11, 2013, the Director of OFAC designated the following three entities ¹ as persons whose property and interests in property are blocked pursuant to section 2 of E.O. 13645:

¹ In addition, on December 12, 2013, the Director of OFAC designated individual VITALY SOKOLENKO and entity FERLAND COMPANY LIMITED pursuant to section 2 of E.O. 13645. Separate notices detailing OFAC's actions with respect to this individual and entity are being published in today's Federal Register.

Entities

1. MID OIL ASIA PTE. LTD., Harbourfront Centre, 1 Maritime Square #09-09 099253, Singapore; Executive Order 13645 Determination—Material Support [EO13645]

2. SINGA TANKERS PTE. LTD., 89 Short Street Number 10-07, Golden Wall Centre 188216, Singapore; Executive Order 13645 Determination—Material Support [EO13645]

3. SIQIRIYA MARITIME CORP., Zen Towers, 111, Natividad Almeda-Lopez Street, Ermita, 1111, Manila, Philippines; Executive Order 13645 Determination—Material Support [EO13645]

In addition, on December 12, 2013, the Director of OFAC identified the following three vessels as blocked property of SIQIRIYA MARITIME CORP., an entity whose property and interests in property are blocked pursuant to E.O. 13645:

Vessels

1. ANTHEM Panama flag (Siqiriya Maritime Corp.); Vessel Registration Identification 8310669 (vessel) [EO13645]

2. JAFFNA Panama flag (Siqiriya Maritime Corp.); Vessel Registration Identification 8609515 (vessel) [EO13645]

3. OLYSA Panama flag (Siqiriya Maritime Corp.); Vessel Registration Identification 9001605 (vessel) [EO13645]

The entities and vessels named above have been added to OFAC's List of Specially Designated Nationals and Blocked Persons with the identifying tag “EO13645.”

Dated: August 8, 2014.
Barbara C. Hammerle,
Acting Director, Office of Foreign Assets Control.

[FR Doc. 2014-21169 Filed 9-4-14; 8:45 am]

BILLING CODE 4810-AL-P